DEPARTMENT OF AGRICULTURE

Animal and Plant Health Inspection Service

9 CFR Part 94

[Docket No. APHIS-2014-0032]

Importation of Beef From a Region in Argentina

AGENCY: Animal and Plant Health Inspection Service, USDA.

ACTION: Proposed rule; reopening of comment period.

SUMMARY: We are reopening the comment period for our proposed rule that would allow, under certain conditions, the importation of fresh (chilled or frozen) beef from a region in Argentina located north of Patagonia South and Patagonia North B, referred to as Northern Argentina. This action will allow interested persons additional time to prepare and submit comments.

DATES: The comment period for the proposed rule published on August 29, 2014 (79 FR 51508) is reopened. We will consider all comments that we receive on or before December 29, 2014.

ADDRESSES: You may submit comments by either of the following methods:

• Federal eRulemaking Portal: Go to http://www.regulations.gov/#!docketDetail;D=APHIS-2014-0032.

• Postal Mail/Commercial Delivery: Send your comment to Docket No. APHIS-2014-0032, Regulatory Analysis and Development, PPD, APHIS, Station 3A-03.8, 4700 River Road Unit 118, Riverdale, MD 20737-1238.

Supporting documents and any comments we receive on this docket may be viewed at http://www.regulations.gov/#!docketDetail;D=APHIS-2014-0032 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Silvia Kreindel, Senior Staff Veterinarian, Regionalization Evaluation Services, National Import Export Services, Veterinary Services, APHIS, 4700 River Road Unit 38, Riverdale, MD 20737-1231; (301) 851-3313.

SUPPLEMENTARY INFORMATION: On August 29, 2014, we published in the Federal Register (79 FR 51508-51514, Docket No. APHIS-2014-0032) a proposal to allow, under certain conditions, the importation of fresh (chilled or frozen) beef from a region in Argentina located north of Patagonia South and Patagonia North B, referred to as Northern Argentina.

Comments on the proposed rule were required to be received on or before October 28, 2014. We are reopening the comment period on Docket No. APHIS-2014-0032 for an additional 60 days. We will also accept all comments received between October 29, 2014 (the day after the close of the original comment period) and the date of this document. This action will allow interested persons additional time to prepare and submit comments.

Authority: 7 U.S.C. 450, 7701-7772, 7781-7786, and 8301-8317; 21 U.S.C. 136 and 136a; 31 U.S.C. 9701; 7 CFR 2.22, 2.80, and 371.4.

Done in Washington, DC, this 27th day of October 2014.
Kevin Shea,
Administrator, Animal and Plant Health Inspection Service.

[FR Doc. 2014-25936 Filed 10-30-14; 8:45 am]

BILLING CODE 3410-34-P